DEPARTMENT OF JUSTICE

Notice of Lodging of Proposed Consent Decree Under the Comprehensive Environmental Response, Compensation, and Liability Act

On January 10, 2013, the Department of Justice lodged a proposed Consent Decree with the United States District Court for the Central District of California in the lawsuit entitled United States v. Pacific Gas & Electric Company, Civil Action No. EDCV13-00074-VAP(OPx).

The United States filed this lawsuit on behalf of the Department of the Interior under the Comprehensive Environmental Response, Compensation and Liability Act (CERCLA). The complaint requests recovery of costs that the United States incurred responding to releases of hazardous substances at the Pacific Gas & Electric Topock Gas Compressor Station Site, located approximately 15 miles southeast of Needles, California, in San Bernadino County. The complaint also seeks injunctive relief. Under the proposed Consent Decree the defendant PG&E agrees to pay the United States' response costs incurred and to be incurred in connection with the response actions at the Site and to perform the groundwater remedial action that the Department of Interior selected for the site. In return, the United States agrees not to sue the defendant PG&E under sections 106 and 107 of CERCLA.

The publication of this notice opens a period for public comment on the Consent Decree. Comments should be addressed to the Assistant Attorney General, Environment and Natural Resources Division, and should refer to United States v. Pacific Gas & Electric Company, Civil Action No. EDCV13-00074-VAP (OPx) (USDC C.D. Cal.), D.J. Ref. No. 90-11-3-07240/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $63.25 (25 cents per page reproduction cost) payable to the United States Treasury. For a paper copy without the exhibits and signature pages, the cost is $19.50.

Henry Friedman,
Assistant Section Chief, Environmental Enforcement Section, Environment and Natural Resources Division.

[FR Doc. 2013-01033 Filed 1-17-13; 8:45 am]

BILLING CODE 4410-15-P